DEPARTMENT OF COMMERCE

National Oceanic and Atmospheric Administration

RIN 0648-XG979

Gulf of Mexico Fishery Management Council; Public Meeting

AGENCY: National Marine Fisheries Service (NMFS), National Oceanic and Atmospheric Administration (NOAA), Commerce.

ACTION: Notice of a public meeting.

SUMMARY: The Gulf of Mexico Fishery Management Council will hold a meeting via webinar of its Standing, Reef Fish, Red Drum and Socioeconomic Scientific and Statistical Committees (SSC).

DATES: The meeting will convene via webinar on Thursday, May 9, 2019; 2 p.m.-5 p.m., EDT.

ADDRESSES: You may register for the webinar by visiting www.gulfcouncil.org and clicking on the SSC meeting on the calendar.

Council address: Gulf of Mexico Fishery Management Council, 4107 W Spruce Street, Suite 200, Tampa, FL 33607; telephone: (813) 348-1630.

FOR FURTHER INFORMATION CONTACT: Ryan Rindone, Fishery Biologist, Gulf of Mexico Fishery Management Council; ryan.rindone@gulfcouncil.org, telephone: (813) 348-1630.

SUPPLEMENTARY INFORMATION:

Thursday, May 9, 2019; 2 p.m.-5 p.m., EDT

The meeting will begin with Introductions, Adoption of Agenda, and Approval of Scientific and Statistical Committees (SSC) Minutes from the March 13-14, 2019 Standing, Reef Fish, Mackerel, Shrimp and Socioeconomic SSC meeting; and, selection of SSC representative to attend the June 3-6, 2019 Council meeting in Destin/Miramar, FL. The Committees will review carryover simulations updated to include overages, and will discuss any other business items.

—Meeting Adjourns

The Agenda is subject to change, and the latest version along with other meeting materials will be posted on www.gulfcouncil.org as they become available.

Although other non-emergency issues not on the agenda may come before the Scientific and Statistical Committee for discussion, in accordance with the Magnuson-Stevens Fishery Conservation and Management Act, those issues may not be the subject of formal action during this meeting. Actions of the Scientific and Statistical Committee will be restricted to those issues specifically identified in the agenda and any issues arising after publication of this notice that require emergency action under Section 305(c) of the Magnuson-Stevens Fishery Conservation and Management Act, provided the public has been notified of the Council's intent to take action to address the emergency.

Special Accommodations

This meeting is physically accessible to people with disabilities. Requests for sign language interpretation or other auxiliary aids should be directed to Kathy Pereira at the Gulf Council Office (see ADDRESSES), at least 5 working days prior to the meeting.

Dated: April 2019.
Tracey L. Thompson,
Acting Deputy Director, Office of Sustainable Fisheries, National Marine Fisheries Service.

[FR Doc. 2019-08294 Filed 4-23-19; 8:45 am]

BILLING CODE 3510-22-P